DEPARTMENT OF THE INTERIOR

Bureau of Land Management

[WO-320-1330-PE-24 1A]

Extension of Approved Information Collection, OMB Approval Number 1004-0103

AGENCY: Bureau of Land Management, Interior.

ACTION: Notice and request for comments.

SUMMARY: The Bureau of Land Management (BLM) has submitted an Information Collection Request (ICR) to OMB for review and approval. The ICR is scheduled to expire on March 31, 2008. The BLM may not conduct or sponsor and a person is not required to respond to a collection of information unless it displays a currently valid OMB control number. However, under OMB regulations, the BLM may continue to conduct or sponsor this information collection while it is pending at OMB. On January 8, 2008, the BLM published a notice in the Federal Register (73 FR 1364) requesting comment on this information collection. The comment period closed on March 8, 2008. The BLM received no comments. You may obtain copies of the collection of information and related forms and explanatory material by contacting the BLM Information Collection Clearance Officer at the telephone number listed in the ADDRESSES section below.

DATES: The OMB is required to respond to this request within 60 days but may respond after 30 days. Submit your comments to OMB at the address below by April 28, 2008 to receive maximum consideration.

ADDRESSES: Send your comments and suggestions on this ICR to the Desk Officer for the Department of the Interior at OMB-OIRA at (202) 395-6566 (fax) or OIRA_DOCKET@OMB.eop.gov (e-mail). Please provide a copy of your comments to Alexandra Ritchie, Information Collection Clearance Officer, Bureau of Land Management, at U.S. Department of the Interior, Bureau of Land Management, Mail Stop 401LS, 1849 C Street, NW., Washington, DC 20240. Additionally, you may contact Alexandra Ritchie regarding this ICR at (202) 452-0388 (phone); (202) 653-5287 (fax); or Alexandra_Ritchie@blm.gov (e-mail).

FOR FURTHER INFORMATION CONTACT: For program-related questions, contact George Brown on (202) 452-7772 (Commercial or FTS). Persons who use a telecommunications device for the deaf (TDD) may call the Federal Information Relay Service (FIRS) at 1-800-877-8330, 24 hours a day, seven days a week, to contact Mr. Brown via message service. For questions regarding this ICR or the information collection process, contact Alexandra Ritchie by phone, mail, fax, or e-mail (see ADDRESSES).

SUPPLEMENTARY INFORMATION: OMB Control Number: 1004-0103.

Title: Mineral Materials Disposal, 43 CFR 3600, 3601, and 3602.

Bureau Form Number: 3600-9.

Type of Request: Revision of currently approved collection.

Affected Public: Private sector.

Respondent's Obligation: Required to obtain or retain a benefit.

Frequency of Collection: Annually or monthly (contracts and reporting requirements vary).

Activity | Number of annual respondents | Number of annual responses | Completion time per response | Annual burden hours
Form 3600-9:
43 CFR 3602.10 Contract for the Sale of Mineral Materials | 440 | 440 | 30 minutes | 220
Form Subtotal | 440 | 440 | 30 minutes | 220
Non-form:
43 CFR 3601.30 Sampling and testing | 30 | 30 | 30 minutes | 15
43 CFR 3602.10 Request for sale | 440 | 440 | 30 minutes | 220
43 CFR 3601.40 Mining and reclamation plans | 110 | 110 | 24 hours | 2,640
43 CFR 3601.40 Mining and reclamation plans (simple case) | 200 | 200 | 2 hours | 400
43 CFR 3602.14 Performance bond | 440 | 440 | 30 minutes | 220
43 CFR 3602.21 Payments | 440 | 440 | 12 hours | 5,280
43 CFR 3602.28 Records Maintenance | 440 | 440 | 6 hours | 2,640
Non-Form Subtotal | 2,100 | 2,100 |  | 11,415
Total Form and Non-Form | 2,540 | 2,540 |  | 11,635

Abstract: The Materials Act of 1947, as amended (Act), 30 U.S.C. 601 and 602, provides for the disposal of mineral materials, such as sand, gravel, and petrified wood from public lands by sale or free use. The BLM disposes of such materials under the regulations at CFR parts 3600 and 3620.

The BLM uses Form 3600-9 to collect information to:

(1) Determine whether the sale of mineral materials is in the public interest;

(2) Mitigate the environmental impacts of mineral materials development;

(3) Get fair market value for materials sold; and

(4) Prevent trespass removal of the materials.

Applicants must submit a request in writing to the BLM to purchase mineral materials. Specific information requirements are not stated in the regulations, but sale agreements are made on Form 3600-9 approved by the BLM.

Respondents maintain records as part of the customary and usual business and private practices, and purchases do not involve substantial additional information collection for most respondents. Cost estimates for information collection can vary widely because the nature of the applications varies considerably in size, location, and associated environmental conflicts; all of which can substantially affect the complexity and cost of the processing and the amount of information needed. Typically, larger purchases involve more records over a longer period of time. Respondents are not required to purchase additional computer hardware or software to comply with these information collection requirements. There are no capital and start-up costs involved with this information collection.

While the BLM does not require the respondents to purchase special equipment to maintain these records and these respondents maintain records for tax purposes and production verification as part of their usual business, the BLM does ask respondents to query or search their databases or other records maintenance systems to provide a summary record so that the BLM can process the requests for an exclusive mineral materials sales contract. We therefore treat this combined records maintenance and reporting effort as part of the respondents' annual burden hours and costs in Item 12 of this document. For the purposes of this information collection request, “records maintenance” is considered one of the “non-form information requirements.”

There is a filing fee associated with this information collection for independent sales that are not in a community pit or common use area. Such sales require a case-by-case analysis by the BLM of each application because each is unique. Sales vary widely depending on the magnitude and nature of the application (can range in quantity from tens to millions of tons of materials), the complexity of the mining plan proposed, the duration proposed (can range from days to years), the location of the proposed removal area, the associated environmental effects at that location, and the BLM's related processing costs for that application, including the travel time to the site.

The information collection considers a general cost range for respondents for 43 CFR 3601.40, including no cost (where respondent uses a BLM plan at a community pit), mid-range costs (respondent either prepares a simple plan for small sale at a new site, designs a plan for multiple sales at a new site, or makes adjustments to a BLM plan for a sale at a community pit), and upper-level costs (to establish a new site, typically for a larger sale, requiring original mining and reclamation plan design).

The BLM collected a total of $66,120 in fees associated with processing information requirements connected with this collection (exclusive sales contracts) in FY 2007. Although we cannot determine the filing fee per response in advance, for purposes of this information collection we have determined that the average annual filing fee per contract is $150.27 or about $150 ($66,120 divided by 440 exclusive sales contracts). We are therefore assigning this non-burden hour cost to the sales contract Form 3600-9 Information Collection (IC) in the ROCIS database.

We can attribute our change in non-burden hour costs to respondents from the previous collection to new BLM regulations (program change) that took effect in November 2005 authorizing the BLM to charge fees to recover our costs of processing some sales contracts. Those regulatory changes are contained in Minerals Management: Adjustment of Cost Recovery Fees Final Rule (43 CFR parts 3000, 3100, 3150, 3200, 350, 3580, 3600, 3730, 3810, and 3830). The BLM collected a total of $66,120 in cost recovery fees associated with this information collection in FY 2007. In order to estimate the annual non-burden hour cost to respondents for this collection, the BLM is assuming that it will collect on average $66,120 in cost-recovery fees each year associated with this collection.

Comments: We again specifically request your comments on the following:

(1) Whether the collection of information is necessary for the proper functioning of the BLM, including whether the information will have practical utility;

(2) The accuracy of the BLM's estimate of the burden of collecting the information, including the validity of the methodology and assumptions used;

(3) The quality, utility and clarity of the information we collect; and

(4) How to minimize the burden of collecting the information on those who are to respond, including the use of appropriate automated electronic, mechanical, or other forms of information technology.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: March 24, 2008.
Alexandra Ritchie,
Bureau of Land Management, Information Collection Clearance Officer.

[FR Doc. E8-6293 Filed 3-26-08; 8:45 am]

BILLING CODE 4310-84-P